DEPARTMENT OF COMMERCE

National Oceanic and Atmospheric Administration

[RTID 0648-XB981]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Mackerel, Squid, and Butterfish Monitoring Committee will hold a public webinar meeting.

DATES: The meeting will be held on Friday, May 20, 2022, from 10 a.m. to 12 p.m., EDT. For agenda details, see SUPPLEMENTARY INFORMATION.

ADDRESSES: The meeting will be held via webinar. Information on how to connect to the webinar will be posted to https://www.mafmc.org/council-events/.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The objectives of this meeting are for the Monitoring Committee to: (1) Review recent longfin squid and chub mackerel fishery performance and management measure recommendations from the Advisory Panel, the Scientific and Statistical Committee, and Council staff; (2) Review, and if appropriate, recommend changes to the previously implemented 2023 longfin squid specifications; and (3) recommend 2023-25 annual catch limits, annual catch targets, total allowable landings limits, and other management measures for chub mackerel. Meeting materials will be posted to www.mafmc.org.

Special Accommodations

The meeting is physically accessible to people with disabilities. Requests for sign language interpretation or other auxiliary aids should be directed to Shelley Spedden, (302) 526-5251 at least 5 days prior to the meeting date.

Authority: 16 U.S.C. 1801 et seq.

Dated: April 26, 2022.
Tracey L. Thompson,
Acting Deputy Director, Office of Sustainable Fisheries, National Marine Fisheries Service.

[FR Doc. 2022-09252 Filed 4-28-22; 8:45 am]

BILLING CODE 3510-22-P